ENVIRONMENTAL PROTECTION AGENCY

[FRL-9310-6; EPA-HQ-OEI-2011-0121]

Establishment of a New System of Records for Personal Information Collected by the Environmental Protection Agency's Light Duty In-Use Vehicle Testing Program

AGENCY: Environmental Protection Agency.

ACTION: Notice.

SUMMARY: The Environmental Protection Agency's (EPA) Office of Transportation and Air Quality is giving notice that it proposes to create a new system of records pursuant to the provisions of the Privacy Act of 1974 (5 U.S.C. 552a). This system of records contains personally identifiable information (PII) collected from owners of light-duty vehicles who volunteer to participate in EPA's Light-Duty In-Use Vehicle Testing Program.

DATES: Persons wishing to comment on this new system of records notice must do so by July 5, 2011.

ADDRESSES: Submit your comments, identified by Docket ID No. EPA-HQ-OEI-2011-0121, by one of the following methods:

• http://www.regulations.gov: Follow the on-line instructions for submitting comments.

• E-mail: oei.docket@epa.gov.

• Fax: (202) 566-1752.

• Mail: OEI Docket, Environmental Protection Agency, Mailcode: 2822T, 1200 Pennsylvania Ave., NW., Washington, DC 20460.

• Hand Delivery: OEI Docket, EPA/DC, EPA West Building, Room 3334, 1301 Constitution Ave., NW., Washington, DC. Such deliveries are only accepted during the Docket's normal hours of operation, and special arrangements should be made for deliveries of boxed information.

Instructions: Direct your comments to Docket ID No. EPA-HQ-OEI-2011-0121. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available (e.g., CBI or other information for which disclosure is restricted by statute). Certain other material, such as copyrighted material, will be publicly available only in hard copy. Publicly available docket materials are available either electronically in http://www.regulations.gov or in hard copy at the OEI Docket, EPA/DC, EPA West Building, Room 3334, 1301 Constitution Avenue, NW., Washington, DC. The Public Reading Room is open from 8:30 a.m. to 4:30 p.m., Monday through Friday excluding legal holidays. The telephone number for the Public Reading Room is (202) 566-1744, and the telephone number for the OEI Docket is (202) 566-1745.

FOR FURTHER INFORMATION CONTACT: Lynn Sohacki, Compliance and Innovative Strategies Division, Office of Transportation and Air Quality, U.S. Environmental Protection Agency, 2000 Traverwood, Ann Arbor, Michigan 48105; telephone number: 734-214-4851; fax number: 734-214-4869; e-mail address: sohacki.lynn@epa.gov.

SUPPLEMENTARY INFORMATION:

I. General Information

The U.S. Environmental Protection Agency is creating a Privacy Act system of records in support of its Light-Duty In-Use Vehicle Testing Program. The Clean Air Act requires manufacturers of motor vehicles and engines to design and build vehicles that will comply with emissions standards throughout the vehicle's life span. EPA is responsible for monitoring compliance and investigating possible noncompliance with this requirement. In order to fulfill this function, it is necessary for EPA to test actual “in-use” vehicles. This program uses motor vehicle registration information obtained from the Michigan Secretary of State to recruit volunteers who will allow their vehicles to be tested. The information that will be maintained regarding program participants includes: (1) Car owner's name, address, phone number, and vehicle identification numbers (VIN); (2) owners' response cards indicating willingness to participate or not; (3) owners' description of their vehicles on the recruitment response card and telephone questionnaire; (4) notary statement for questionnaire; (5) owners' optionally provided car maintenance records; (6) results of tests of vehicles recruited; and (7) vehicle release agreement, vehicle test agreement, loaner car agreement, cash incentives agreement (includes social security number for mandatory tax reporting purposes if cash incentive is greater than $600) and (8) cash receipt.

The above information is contained in computer and paper files at EPA's National Vehicle and Fuel Emissions Laboratory in Ann Arbor, Michigan. All information provided by the Secretary of State (vehicle owners' names, addresses, vehicle identification numbers, vehicle make, model year, body style and weight/fee category) is governed by an approved security, privacy and personnel policy plan mandated by the State. The Plan includes provisions governing the entire information system with respect to computer security, prohibition and detection of any unauthorized access or use of personal information, employee agreements, annual review, notification of violations, system supervision requirements, and if necessary, disciplinary actions. Only contractor employees (governed by Privacy Act compliance terms in their contract) and EPA employees administering the program have access to the information provided by the Secretary of State, the questionnaire, maintenance records, and test results. Files containing personal information are kept in locked filing cabinets. Physical access to the filing cabinets is limited to authorized personnel employees with building key cards. All files are assigned a control number by which they are accessed. If the vehicle owner gives consent, the questionnaire (including the owner's name and address), maintenance records, and test results are shared with the vehicle manufacturer. This information is used by the manufacturer to participate in problem solving with the Agency when emissions compliance issues are raised by the test results and to contact the current owner for voluntary participation in the retest conducted by the manufacturer. Manufacturers already maintain VIN and original owner information in connection with warranty obligations and maintenance information if the service was performed in manufacturer-affiliated repair shops. However, additional maintenance information voluntarily submitted by the owner to the Agency will be used to help identify the cause of emissions compliance issues.

Dated: April 19, 2011.
Malcolm D. Jackson,
Assistant Administrator and Chief Information Officer.

EPA-60

System Name:

EPA's Light-Duty In-Use Vehicle Testing Program Information System.

System Location:

USEPA, Office of Transportation and Air Quality, Compliance and Innovative Strategies Division, National Vehicle and Fuel Emissions Laboratory, 2000 Traverwood, Ann Arbor, Michigan 48105.

Categories of Individuals Covered by the System:

Individuals who volunteer to loan vehicles they own or lease for emissions standards testing at the National Vehicle and Emissions Laboratory.

Categories of Records in the System:

(a) Car owner/lessee names, addresses, phone numbers, and vehicle identification numbers (VINs).

(b) Owners' response cards.

(c) Owners' description of vehicle on response cards and telephone questionnaires; notary statement for questionnaire; owner's car maintenance records (optional); results of tests on participating vehicles.

(d) Vehicle release; vehicle test agreement; loaner car agreement, cash incentives agreement (includes social security number for mandatory tax reporting purposes if incentive is greater than $600) and cash receipt.

Authority for Maintenance of the System (includes any revisions or amendments):

Title II of the Clean Air Act, (42 U.S.C. 7521 et seq.) requires manufacturers of motor vehicles and engines to design and build vehicles which will comply with emission standards throughout their lifespan. Pursuant to the Clean Air Act section 207 (42 U.S.C. 7541), EPA is responsible for monitoring compliance and investigating possible noncompliance with emission standards.

Purpose(s):

The primary purpose of the system is to collect and maintain the information necessary to recruit vehicles of a particular class for testing. This includes information relevant to the testing of recruited vehicles, maintenance records (if volunteered by the participant), information from tests conducted on the vehicles, and documents necessary to administer the program (vehicle release, loaner agreement, cash receipt, etc.).

Routine Uses of Records Maintained in the System, Including Categories of Users, and the Purposes of Such Uses:

General routine uses A, F, G, H, K and L apply to this system. (A detailed description of these routine uses can be found in the Agency's Systems of Records Web site at http://www.epa.gov/privacy/notice/general.htm.)

In addition, the following routine uses may also apply:

A. If the owner consents, maintenance records, questionnaire answers, and test results are disclosed to the manufacturer of the owner's vehicle. This information may be used by the manufacturer and EPA to help clarify the test-related issues.

B. Manufacturers may, on occasion, use this information to contact a vehicle owner to request voluntary participation in a manufacturer-conducted retest.

C. IRS Form 21099 is filed with the IRS as required for payments of $600 or more. The information provided on the form includes the recipient's name, address, and social security number.

Policies and Practices for Storing, Retrieving, Accessing, Retaining, and Disposing of Records in the System:

• Storage: Information from the Michigan Secretary of State is received on diskette and stored on a computer. All subsequent data is received and stored as paper files.

• Retrievability: All data are retrieved by a control number that is assigned to each participant at the initiation of the vehicle recruitment process.

• Safeguards:

—Computer-stored information is protected in accordance with the Agency's security requirements.

—Access to the information in the system is limited to authorized Agency and contractor personnel who administer the program. No external access to the system is provided. A subset of the information may be shared with manufacturers in accordance with the vehicle owner's prior consent.

—The contractor is subject to Federal Acquisition Regulations (FAR) Privacy Act clauses included in its contract.

—All information in the system is subject to the agreement entered into by the Agency with the Michigan Department of State under the “Security, Privacy, and Personnel Policy Plan Governing Personal Information.” The Plan includes methods to prohibit and detect any unauthorized access or use of personal information; an annual review of data security policies and procedures; notification of any known or alleged breach of security of personal data; notification of individuals affected by any unauthorized release of personal information; maintenance of records identifying each third-party person or entity obtaining personal information and the uses thereof; notification of the supervisor if any employee is approached to provide information improperly; and disciplinary actions for violations of the Plan.

• Retention and Disposal: Records stored in this system are subject to Schedule 483.

System Manager(s) and Address:

Lynn Sohacki, Compliance and Innovative Strategies Division, Office of Transportation and Air Quality, U.S. Environmental Protection Agency, 2000 Traverwood, Ann Arbor, Michigan 48105; telephone number: 734-214-4851; fax number: 734-214-4869; e-mail address: sohacki.lynn@epa.gov.

Notification Procedure:

Requests to determine whether this system of records contains a record pertaining to you must be sent to the Agency's Freedom of Information Office; U.S. Environmental Protection Agency; 1200 Pennsylvania Avenue, NW., Room 6416 EPA West; Washington, DC 20460; (202) 566-1667; E-mail: (hq.foia@epa.gov); Attn: Privacy Officer.

Record Access Procedures:

Individuals wishing to request access to their records should follow the Notification Procedures to contact the Agency. Individuals seeking access to their personal information contained in this system of records will be required to provide adequate identification (e.g., driver's license, military identification card, employee badge or identification card). Access requests must meet the requirements of EPA's Privacy Act regulations at 40 CFR part 16.

Contesting Records Procedures:

Individuals wishing to request access to their records should follow the Notification Procedures to contact the Agency. Requests to correct or amend a record must identify the subject record and the corrective action sought. Complete EPA Privacy Act procedures are set out in 40 CFR part 16.

Record Source Categories:

(1) Vehicle Identification Numbers (VINs), vehicle class descriptors, and owner name and address from the Michigan Department of State;

(2) Information on the vehicles provided by their owners from potential and actual participants in the program;

(3) Results of tests conducted on participating owners' vehicles;

(4) Information generated by EPA and its contractor in administering the program.

System Exempted from Certain Provisions of the Privacy Act:

None.

[FR Doc. 2011-12768 Filed 5-23-11; 8:45 am]

BILLING CODE 6560-50-P